ENVIRONMENTAL PROTECTION AGENCY

[EPA-HQ-OPP-2009-1017; FRL-9396-3]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a June 12, 2013 Federal Register Notice of Receipt of Requests from the registrants listed in Table 2 of Unit II. to voluntarily cancel these product registrations. In the June 12, 2013 Federal Register notice, EPA indicated that it would issue an order implementing the cancellations, unless the Agency received substantive comments within the 30-day comment period that would merit its further review of these requests, or unless the registrants withdrew their requests. The Agency received two comments on the June 12, 2013 Federal Register notice but only one merited its further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective September 20, 2013.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017 is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of products registered under FIFRA section 3. These registrations are listed in sequence by registration number in Table 1 of this unit.

Table 1—Product Cancellations
EPA Registration No. | Product name | Chemical name
000100-01104 | Tralkoxydim Technical | Tralkoxydim.
000100-01130 | Achieve SC Herbicide | Tralkoxydim.
000192-00163 | Dexol Rose & Floral Insect Killer | Piperonyl butoxide, Pyrethrins (no inert use).
000192-00198 | Dexol Multipurpose Insect Spray | Permethrin.
000192-00222 | Allpro Permeththrin ICG .5% | Permethrin.
000239-02709 | Ortho MAT28S RTU | Aminocyclopyrachlor.
000239-02710 | Ortho MAT28N RTU | Aminocyclopyrachlor.
000239-02711 | Ortho MAT28NS Conc | Aminocyclopyrachlor.
000239-02712 | Ortho MAT28N Combo | Aminocyclopyrachlor, Dicamba, Quinclorac.
000239-02713 | Ortho MAT28N Combo Concentrate | Aminocyclopyrachlor, Dicamba, Quinclorac.
000264-01028 | Mepiquat Chloride Technical Plant Regulator | Mepiquat chloride.
000499-00465 | Pro-Control Fogger II | MGK 264, Piperonyl butoxide, Pyrethins (no inert use).
000538-00319 | Ortho MAT28N Combo Concentrate | Aminocyclopyrachlor.
000538-00320 | Scotts 65 MAT Weed & Feed | Aminocyclopyrachlor.
000538-00321 | Scotts 55 MAT Weed & Feed | Aminocyclopyrachlor.
000538-00322 | Scotts 60 MAT Weed & Feed | Aminocyclopyrachlor.
000577-00541 | Cuprinol Wood Preservative Green No. 10 | Copper naphthenate.
001021-01060 | D-trans Allethrin 90% Concentrate | d-trans-Chrysanthemum monocarboxylic ester of dl-2-allyl-4-hydoroxy-3-methyl-2-cylopenten-1-one.
001021-01128 | D-trans Intermediate 1868 | d-trans-Chrysanthemum monocarboxylic ester of dl-2-allyl-4-hydoroxy-3-methyl-2-cylopenten-1-one, MGK 264, Piperonyl butoxide.
001021-01550 | Evercide Intermediate 2416 | d-trans-Chrysanthemum monocarboxylic ester of dl-2-allyl-4-hydoroxy-3-methyl-2-cylopenten-1-one, MGK 264, Permethrin.
001021-01575 | Evercide Intermediate 2491 | d-trans-Chrysanthemum monocarboxylic ester of dl-2-allyl-4-hydoroxy-3-methyl-2-cylopenten-1-one, MGK 264 Piperonyl butoxide, Esfenvalerate.
001021-01594 | Evercide Residual Pressurized Spray 2523 | d-trans-Chrysanthemum monocarboxylic ester of dl-2-allyl-4-hydoroxy-3-methyl-2-cylopenten-1-one, MGK 264, Piperonyl butoxide, Esfenvalerate.
001021-01607 | Evercide Residual Pressurized Spray 2581 | d-trans-Chrysanthemum monocarboxylic ester of dl-2-allyl-4-hydoroxy-3-methyl-2-cylopenten-1-one, MGK 264, Permethrin.
005481-00130 | Fruit Fix Concentrate 800 | Ammonium 1-naphthaleneacetate.
005481-00459 | Prune Smart Sprout Inhibitor | Ethyl 1-naphthaleneacetate.
005481-00496 | Snaap-2 | Potassium 1-naphthaleneacetate.
005481-00497 | Snaap-8 | Potassium 1-naphthaleneacetate.
009779-00298 | Riverside Copper Hydroxide 77DF | Copper hydroxide.
010163-00293 | GWN-3771 Technical Herbicide | Thifensulfuron.
010163-00294 | GWN-3124 WDG Herbicide | Thifensulfuron.
010163-00299 | GWN-3125 WDG Herbicide | Tribenuron-methyl.
010163-00300 | GWN-3123 WDG Herbicide | Tribenuron-methyl, Thifensulfuron.
010807-00436 | Konk Insect Killer | d-trans-Chrysanthemum monocarboxylic ester of dl-2-allyl-4-hydroxy-3-methyl-2-cyclopenten-1-one, MGK 264, Permethrin.
045385-00093 | CTX/Cyber Blast | MGK 264, Prallethrin, Esfenvalerate.
053883-00128 | Propiconazole HG | Propiconazole.
053883-00220 | Oryzalin 2G | Oryzalin, Benfluralin.
055260-00007 | BDL 1633 Industrial Microbiocide | Dodecylguanidine hydrochloride.
062190-00032 | Arch CMIT/MIT | 5-Chloro-2-methyl-3(2H)-isothiazolone, 2-Methyl-3(2H)-isothiazolone.
062190-00035 | Arch CMIT/MIT 14 MUP | 2-Methyl-3(2H)-isothiazolone, 5-Chloro-2-methyl-3(2H)-isothiazolone.
082397-00002 | Chem-Fish Synergized | Piperonyl butoxide, Rotenone, Cube Resins other than rotenone.
082397-00003 | Powdered Cube Root | Rotenone, Cube Resins other than rotenone.
086363-00014 | KT Propicon 3.6EC | Propiconazole.
MN070006 | Chem Sect Brand Chem Fish Synergized | Piperonyl butoxide, Rotenone, Cube Resins other than rotenone.
OR910030 | K-Salt Fruit Fix 200 | Potassium 1-naphthaleneacetate.
OR910031 | K-Salt Fruit Fix 800 | Potassium 1-naphthaleneacetate.
WA050004 | Fruitone-N | Sodium 1-naphthaleneacetate.
WA910050 | K-Salt Fruit Fix 200 | Potassium 1-naphthaleneacetate.

Table 2 of this unit includes the names and addresses of record for all registrants of the products in Table 1 of this unit, in sequence by EPA company number. This number corresponds to the first part of the EPA registration numbers of the products listed in Table 1 of this unit.

Table 2—Registrants of Cancelled Products
EPA Company No. | Company name and address
100 | Syngenta Crop Protection, LLC, 410 Swing Rd., P.O. Box 18300, Greensboro, NC 27419-8300.
192 | Value Garden Supply, LLC, D/B/A Value Garden Supply, P.O. Box 585, Saint Joseph, MO 64502.
239 | The Scotts Company, D/B/A The Ortho Group, P.O. Box 190, Marysville, OH 43040.
264 | Bayer Cropscience, LP, 2 T.W. Alexander Drive, P.O. Box 12014, Research Triangle Park, NC 27709.
499 | Whitmore Micro-Gen Research Laboratories, Inc., Agent: BASF Corporation, 3568 Tree Court Industrial Blvd., St. Louis, MO 63122-6682.
538 | The Scotts Company, 14111 Scottslawn Rd., Marysville, OH 43041.
577 | Sherwin-Williams Co., 101 Prospect Ave., Cleveland, OH 44115-1075.
1021 | McLaughlin Gormley King Co., D/B/A MGK, 8810 Tenth Ave. North, Minneapolis, MN 55427-4319.
5481, OR910030, OR910031, WA050004, WA910050 | Amvac Chemical Corporation, 4695 MacArthur Court, Suite 1200, Newport Beach, CA 92660-1706.
9779 | Winfield Solutions, LLC, P.O. Box 64589, St. Paul, MN 55164-0589.
10163 | Gowan Company, P.O. Box 5569, Yuma, AZ 85366-8844.
10807 | Amrep, Inc., 990 Industrial Park Dr., Marietta, GA 30062.
45385 | CTX-Cenol, Inc., 1393 East Highland Rd., Twinsburg, OH 44087.
53883 | Control Solutions, Inc., 5903 Genoa-Red Bluff Rd., Pasadena, TX 77507-1041.
55260 | Agriphar S.A., Agent: Ceres International, LLC, 1087 Heartsease Dr., West Chester, PA 19382.
62190 | Arch Wood Protection, Inc., 5660 New Northside Dr., NW., Suite 1100, Atlanta, GA 30328.
82397, MN070006 | Tifa International, LLC 109 Stryker Lane, Hillsborough, NJ 08844.
86363 | Kaizen Technologies, LLC, Agent: Lighthouse Product Services, 1966 W 15th St., Suite 6, Loveland, CO 80538.

III. Summary of Public Comments Received and Agency Response to Comments

The Agency received two comments on the voluntary cancellation notice but only one merited its further review of the requests. The one comment the Agency received that merited further review of the requests was a comment regarding the request for voluntary cancellation of tralkoxydim registrations. The comment was submitted by Dow AgroSciences Canada Inc. (DASCI), and requested that, as a result of DASCI's interests in Canada, the EPA retain the U.S. tolerances that currently exist for tralkoxydim for import purposes. The comment submitted by DASCI does not impact the Agency's decision to grant the request for voluntary cancellation of the tralkoxydim registrations. EPA is not proposing any tolerance actions for tralkoxydim at this time. If any tolerance actions are necessary in the future, there will be an announcement in the Federal Register and there will be a public comment period on the proposed action. For these reasons, the Agency does not believe that the comments submitted during the comment period merit further review or a denial of the requests for voluntary cancellation.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is September 20, 2013. Any distribution, sale, or use of existing stocks of the products identified in Table 1 of Unit II., in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of June 12, 2013 (78 FR 35268) (FRL-9388-5). The comment period closed on July 12, 2013.

VI. Provisions for Disposition of Existing Stocks

Existing stocks are those stocks of registered pesticide products which are currently in the United States and which were packaged, labeled, and released for shipment prior to the effective date of the cancellation action. The existing stocks provisions for the products subject to this order are as follows.

1. For Products 000100-01104 and 000100-01130 identified in Table 1 of Unit II.:

Thereafter, registrants will be prohibited from selling or distributing the products 000100-0114 and 000100-01130 identified in Table 1 of Unit II., except for export in accordance with FIFRA section 17, or proper disposal.

The registrant may continue to sell and distribute the existing stocks of these products until November 1, 2014. Persons other than the registrant may sell, distribute, or use existing stocks of these products until existing stocks are exhausted, provided that such sale, distribution, or use is consistent with the terms of the previously approved labeling on, or that accompanied, the cancelled products.

2. For all other products identified in Table 1 of Unit II.:

The registrants may continue to sell and distribute existing stocks of products listed in Table 1 of Unit II., until September 22, 2014, which is 1 year after the publication of the cancellation order in the Federal Register. Thereafter, the registrants are prohibited from selling or distributing products listed in Table 1 of Unit II., except for export in accordance with FIFRA section 17, or proper disposal. Persons other than the registrants may sell, distribute, or use existing stocks of products listed in Table 1 of Unit II., until existing stocks are exhausted, provided that such sale, distribution, or use is consistent with the terms of the previously approved labeling on, or that accompanied, the canceled products.

List of Subjects

Environmental protection, Pesticides and pests.

Dated: September 13, 2013.
Richard P. Keigwin, Jr.,
Director, Pesticide Re-Evaluation Division, Office of Pesticide Programs.

[FR Doc. 2013-22847 Filed 9-19-13; 8:45 am]

BILLING CODE 6560-50-P